DEPARTMENT OF VETERANS AFFAIRS

[OMB Control No. 2900-0688]

Proposed Information Collection (Security for Government Financing) Activity: Comment Request

AGENCY: Office of Management, Department of Veterans Affairs.

ACTION: Notice

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 30 days for public comment in response to the notice. This notice solicits comments on information needed to determine if the contractor has adequate security to warrant payment in advance.

DATES: Written comments and recommendations on the proposed collection of information should be received on or before December 26, 2014.

ADDRESSES: Submit written comments on the collection of information through the Federal Docket Management System (FDMS) at www.Regulations.gov; or to Waleska Pierantoni-Monge, Office of Acquisition and Logistics (003A2A), Department of Veterans Affairs, 810 Vermont Avenue NW., Washington, DC 20420; or email: waleska.pierantoni-monge@va.gov. Please refer to “OMB Control No. 2900-0688” in any correspondence. During the comment period, comments may be viewed online through FDMS.

FOR FURTHER INFORMATION CONTACT: Waleska Pierantoni-Monge at (202) 632-5400, Fax (202) 343-1434.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Title: Department of Veterans Affairs Acquisition Regulation (VAAR) 832.202-4, Security for Government Financing.

OMB Control Number: 2900-0688.

Type of Review: Revision of a currently approved collection.

Abstract: VA will use the data collected under VAAR 832.202-4, Security for Government Financing to assess whether or not the contractor's overall financial condition represents adequate security to warrant paying the contractor in advance. The Federal Register Notice with a 60-day comment period soliciting comments on this collection of information was published on September 11, 2014, at pages 54352-54353.

Affected Public: Business or other for-profit and Not-for-profit institutions.

Estimated Annual Burden: 10.

Estimated Average Burden per Respondent: 1 hour.

Frequency of Response: On occasion.

Estimated Number of Respondents: 10.

Dated: November 20, 2014.
By direction of the Secretary.
Crystal Rennie,
Department Clearance Officer, Department of Veterans Affairs .

[FR Doc. 2014-27853 Filed 11-24-14; 8:45 am]

BILLING CODE 8320-01-P